DEPARTMENT OF THE TREASURY

Bureau of Alcohol, Tobacco and Firearms

[Notice No. 932]

Appointment of Individuals To Serve as Members of the Performance Review Board (PRB); Senior Executive Service

SUMMARY: Pursuant to 5 U.S.C. 4314(c)(4), this notice announces the appointment of members of the Performance Review Board for the Bureau of Alcohol, Tobacco and Firearms (ATF) for the rating period beginning October 1, 2000, and ending September 30, 2001. This notice effects changes in the membership of the ATF PRB previously appointed November 14, 2000 (65 FR 68170).

The names and titles of the ATF PRB members are as follows:

John J. Manfreda, Chief Counsel, Bureau of Alcohol, Tobacco and Firearms, Department of the Treasury;

John Dooher, Director, Washington Office, Federal Law Enforcement Training Center, Department of the Treasury;

William F. Riley, Director, Office of Planning, United States Customs Service, Department of the Treasury.

FOR FURTHER INFORMATION CONTACT: Dennis Snyder, Personnel Division, Bureau of Alcohol, Tobacco and Firearms, 650 Massachusetts Avenue, NW., Washington, DC 20226; telephone (202) 927-8610.

Bradley A. Buckles,
Director.

[FR Doc. 01-26270 Filed 10-17-01; 8:45 am]

BILLING CODE 4810-31-P